DEPARTMENT OF DEFENSE

Office of the Secretary

[Docket ID: DoD-2022-HA-0027]

Proposed Collection; Comment Request

AGENCY: The Office of the Assistant Secretary of Defense for Health Affairs (OUSD(HA)), Department of Defense (DoD).

ACTION: 60-Day information collection notice.

SUMMARY: In compliance with the Paperwork Reduction Act of 1995, the Uniformed Services University of the Health Sciences announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 25, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Health Agency, 7700 Arlington Blvd., Falls Church, VA 22042, Terry McDavid, 703-681-3645.

SUPPLEMENTARY INFORMATION:

Title; Associated Form; and OMB Number: Comparing Hospital Hand Hygiene in Liberia: Soap, Alcohol, and Hypochlorite; OMB Control Number 0720-0062.

Needs and Uses: This information collection is necessary to conduct research as part of a U.S.-Liberia collaboration funded by the U.S. Department of Defense Center for Global Health Engagement. The study objectives are to determine the most appropriate cleansing material (soap, alcohol, or hypochlorite/chlorine solution) for routine hand hygiene in Liberian healthcare facilities and to determine how best to implement hand hygiene programs in these facilities. Results of this study may inform Liberian Government strategies to expand and implement best hospital hand hygiene intervention(s) across the nation, and also help shape hand hygiene program implementation in U.S. DoD global humanitarian and disaster response assistance.

Affected Public: Individuals or households.

Annual Burden Hours: 257.88.

Number of Respondents: 84.

Responses per Respondent: 3.07.

Annual Responses: 257.88.

Average Burden per Response: 1 hour.

Frequency: As requested.

Dated: February 18, 2022.
Aaron T. Siegel,
Alternate OSD Federal Register Liaison Officer, Department of Defense.

[FR Doc. 2022-03932 Filed 2-23-22; 8:45 am]

BILLING CODE 5001-06-P